DEPARTMENT OF ENERGY

Federal Energy Regulatory Commission

[Docket No. CP26-19-000]

Columbia Gas Transmission, LLC; Notice of Schedule for the Preparation of an Environmental Assessment for the NKY Gate Enhancement Project

On November 10, 2025, Columbia Gas Transmission, LLC (Columbia) filed an application in Docket No. CP26-19-000 requesting a Certificate of Public Convenience and Necessity pursuant to Section 7(c) and Authorization pursuant to Section 7(b) of the Natural Gas Act to construct, operate, and abandon certain natural gas pipeline facilities. The proposed project is known as the NKY Gate Enhancement Project (Project) and would replace vintage pipeline infrastructure originally installed in the 1950s with modern pipeline facilities. The Project facilities are located in Mason, Nicholas, Bracken, Pendleton and Campbell Counties, Kentucky, and Hamilton County, Ohio. Columbia states the Project purpose is to proactively address aging infrastructure, reduce potential safety and reliability risks, and ensure continued compliance with federal and state regulations, including those administered by the Pipeline and Hazardous Materials Safety Administration.

On November 24, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1770220686.

Schedule for Environmental Review

Issuance of EA—July 31, 2026

90-day Federal Authorization Decision Deadline ²—October 29, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to abandon four existing natural gas transmission pipelines (totaling 48.54 miles) and construct and operate two new natural gas transmission pipelines and three new natural gas lateral pipelines (totaling 30.16 miles) and associated auxiliary and appurtenant facilities.

Background

On January 5, 2026, the Commission issued a Notice of Scoping Period Requesting Comments on Environmental Issues for the Proposed NKY Gate Enhancement Project (Notice of Scoping). The Notice of Scoping was sent to affected landowners; federal, state, and local government agencies; elected officials; environmental and public interest groups; Native American tribes; other interested parties; and local libraries and newspapers. In response, the Commission received comments from the Kentucky Department of Fish and Wildlife Resources and 15 landowners. The primary environmental issues raised by the commenters are vegetation and wildlife, geologic hazards (i.e., karst and slope stability), land use and value, easement locations, construction effects (i.e., noise, dust, traffic, etc.), long-term safety, purpose and need, loss of residential taps, and route alternatives. All substantive comments will be addressed in the EA. Additionally, the Commission received comments in support of the Project from county and state government officials, unions, businesses, organizations, political groups, and private citizens.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP26-19), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: February 20, 2026.
Debbie-Anne A. Reese,
Secretary.

[FR Doc. 2026-03788 Filed 2-24-26; 8:45 am]

BILLING CODE 6717-01-P